INTERNATIONAL TRADE COMMISSION

[Investigation No. 104-TAA-7 (Second Review); Investigation Nos. AA1921-198-200 (Second Review)]

Sugar From the European Union; Sugar from Belgium, France, and Germany

Determinations

On the basis of the record ¹ developed in the subject five-year reviews, the United States International Trade Commission (Commission) determines, pursuant to section 751(c) of the Tariff Act of 1930 (19 U.S.C. 1675(c)) (the Act), that revocation of the countervailing duty order on sugar from the European Union would not be likely to lead to continuation or recurrence of material injury to an industry in the United States within a reasonably foreseeable time.² The Commission also determines that revocation of the antidumping findings on sugar from Belgium, France, and Germany would not be likely to lead to continuation or recurrence of material injury to an industry in the United States within a reasonably foreseeable time.³

¹ The record is defined in sec. 207.2(f) of the Commission's Rules of Practice and Procedure (19 CFR 207.2(f)).

² Commissioner Marcia E. Miller dissenting.

³ Commissioner Marcia E. Miller dissenting.

Background

The Commission instituted these reviews on September 1, 2004 (69 FR 53466) and determined on December 6, 2004 that it would conduct full reviews (69 FR 75568, December 17, 2004). Notice of the scheduling of the Commission's reviews and of a public hearing to be held in connection therewith was given by posting copies of the notice in the Office of the Secretary, U.S. International Trade Commission, Washington, DC, and by publishing the notice in the Federal Register on February 2, 2005 (70 FR 5480). The hearing was held in Washington, DC, on June 28, 2005, and all persons who requested the opportunity were permitted to appear in person or by counsel.

The Commission transmitted its determinations in these reviews to the Secretary of Commerce on August 29, 2005. The views of the Commission are contained in USITC Publication 3793 (August 2005), entitled Sugar from the European Union, and Sugar from Belgium, France, and Germany: Investigation Nos. 104-TAA-7 (Second Review) and AA1921-198-200 (Second Review).

Issued: August 29, 2005.
By order of the Commission.
Marilyn R. Abbott,
Secretary to the Commission.

[FR Doc. 05-17489 Filed 9-1-05; 8:45 am]

BILLING CODE 7020-02-P